DEPARTMENT OF COMMERCE

International Trade Administration

[A-570-945]

Notice of Antidumping Duty Order: Prestressed Concrete Steel Wire Strand from the People's Republic of China

AGENCY: Import Administration, International Trade Administration, Department of Commerce

SUMMARY: Based on affirmative final determinations by the Department of Commerce (the “Department”) and the International Trade Commission (“ITC”), the Department is issuing an antidumping duty order on prestressed concrete steel wire strand (“PC strand”) from the People's Republic of China (“PRC”). On June 22, 2010, the ITC notified the Department of its affirmative determination of material injury to a U.S. industry. See Prestressed Concrete Steel Wire Strand from China (Investigation Nos. 701-TA-464 and 731-TA-1160 (Final), USITC Publication 4162, June 2010).

DATES: Effective Date: June 29, 2010.

FOR FURTHER INFORMATION CONTACT: Alexis Polovina or Alan Ray, AD/CVD Operations, Office 9, Import Administration, International Trade Administration, U.S. Department of Commerce, 14th Street and Constitution Avenue, NW., Washington, DC, 20230; telephone: (202) 482-3927 or (202) 482-5403, respectively.

SUPPLEMENTARY INFORMATION:

Background

In accordance with sections 735(d) and 777(i)(1) of the Tariff Act of 1930, as amended (the “Act”), the Department published the final determination of sales at less than fair value (“LTFV”) in the antidumping investigation of PC strand from the PRC. See Prestressed Concrete Steel Wire Strand From the People's Republic of China: Final Determination of Sales at Less Than Fair Value, 75 FR 28560 (May 21, 2010) (“Final Determination”).

Scope of the Order

The scope of this investigation consists of PC strand, produced from wire of non-stainless, non-galvanized steel, which is suitable for use in prestressed concrete (both pretensioned and post-tensioned) applications. The product definition encompasses covered and uncovered strand and all types, grades, and diameters of PC strand. PC strand is normally sold in the United States in sizes ranging from 0.25 inches to 0.70 inches in diameter. PC strand made from galvanized wire is only excluded from the scope if the zinc and/or zinc oxide coating meets or exceeds the 0.40 oz./ft ² standard set forth in ASTM-A-475. The PC strand subject to this investigation is currently classifiable under subheadings 7312.10.3010 and 7312.10.3012 of the Harmonized Tariff Schedule of the United States (“HTSUS”). Although the HTSUS subheadings are provided for convenience and customs purposes, the written description of the scope of this investigation is dispositive.

Continuation of Suspension of Liquidation

In accordance with section 735(c)(1)(B) of the Act, we will instruct U.S. Customs and Border Protection (“CBP”) to suspend liquidation on all entries of subject merchandise from the PRC. We will also instruct CBP to require cash deposits equal to the estimated amount by which the normal value exceeds the U.S. price as indicated in the chart below. These instructions suspending liquidation will remain in effect until further notice.

Additionally, in the Final Determination, the Department noted that it has continued to find in Pre-Stressed Concrete Steel Wire Strand from the People's Republic of China: Final Affirmative Countervailing Duty Determination, 75 FR 28557 (May 21, 2010) (“CVD Final”), that the products under investigation, exported and produced by Xinhua Metal Products Co., Ltd. (“Xinhua Metal”), benefitted from an export subsidy. See Final Determination, 75 FR at 28563. Therefore, we will instruct CBP to require a cash deposit or posting of a bond equal to the weighted-average amount by which normal value exceeds U.S. price for Xinhua Metal, as indicated below, minus the amount determined to constitute an export subsidy.

With respect to Wuxi Jinyang Metal Products Co., Ltd. (“WJMP”), the voluntary respondent in this proceeding, the Department did not individually examine its exports of merchandise under investigation in the final determination for the companion CVD investigation. As a result, WJMP is captured under the “All Others” rate, which is an average of the companies examined in the CVD Final. Therefore, we will instruct CBP to require a cash deposit or posting of a bond equal to the weighted-average amount by which normal value exceeds U.S. price for WJMP, as indicated below, minus the amount determined to constitute an export subsidy in the “All Others” rate.

With respect to Fasten Group Import & Export Co. Ltd. (“Fasten I&E”), the separate rate company, we note that the rate applied in this proceeding as a separate rate is derived from the calculated rate received by Xinhua Metal. Although Xinhua Metal received export subsidies in the CVD Final, because its export subsidy rate is higher than the export subsidy rate calculated for Fasten I&E in the CVD Final, we will instruct CBP to require a cash deposit or posting of a bond equal to the weighted-average amount by which normal value exceeds U.S. price for Xinhua Metal, as indicated below, minus the amount determined to constitute an export subsidy for Fasten I&E.

Antidumping Duty Order

Antidumping Duty Order

On June 22, 2010, in accordance with section 735(d) of the Act, the ITC notified the Department of its final determination, pursuant to section 735(b)(1)(A)(i) of the Act, that an industry in the United States is materially injured by reason of less-than-fair-value imports of subject merchandise from the PRC. Therefore, in accordance with section 736(a)(1) of the Act, the Department will direct U.S. Customs and Border Protection (“CBP”) to assess, upon further instruction by the Department, antidumping duties equal to the amount by which the normal value of the merchandise exceeds the export price (or constructed export price) of the merchandise for all relevant entries of PC strand from the PRC. These antidumping duties will be assessed on unliquidated entries of PC strand from the PRC entered, or withdrawn from the warehouse, for consumption on or after December 23, 2009, the date on which the Department published its Preliminary Determination. See Prestressed Concrete Steel Wire Strand From the People's Republic of China: Preliminary Determination of Sales at Less Than Fair Value, 74 FR 68232 (December 23, 2009) (“Preliminary Determination”).

Effective on the date of publication of the ITC's final affirmative injury determination, CBP will require, at the same time as importers would normally deposit estimated duties on this merchandise, a cash deposit equal to the estimated weighted-average antidumping duty margins as listed below minus the amounts of export subsidies determined in the companion CVD investigation, as described above. See section 735(c)(3) of the Act. The “PRC-wide” rate applies to all exporters of subject merchandise not specifically listed. The weighted-average dumping margins are as follows:

Exporter | Producer | Weighted-Average Margin
WJMP | WJMP | 42.97
Xinhua Metal | Xinhua Metal | 175.94
Fasten I&E | Jiangyin Fasten Steel Products Co., Ltd., Jiangyin Walsin Steel Cable Co., Ltd., Jiangyin Hongyu Metal Products Co., Ltd. | 175.94
PRC-wide Entity ¹ |  | 193.55
¹ The PRC-wide rate also applies to Tianjin Shengte, Silvery Dragon PC Steel Products Group Co., Ltd., and Liaonin TongDa Building Material Industry Co., Ltd.

This notice constitutes the antidumping duty order with respect to PC strand from the PRC pursuant to section 736(a) of the Act. Interested parties may contact the Department's Central Records Unit, Room 1117 of the main Commerce building, for copies of an updated list of antidumping duty orders currently in effect.

This order is published in accordance with section 736(a) of the Act and 19 CFR 351.211.

Dated: June 24, 2010.
Paul Piquado,
Acting Deputy Assistant Secretary for Import Administration.

[FR Doc. 2010-15912 Filed 6-28-10; 8:45 am]

BILLING CODE 3510-DS-P